FEDERAL EMERGENCY MANAGEMENT AGENCY

44 CFR Part 62

RIN 3067-AD11

National Flood Insurance Program (NFIP); Assistance to Private Sector Property Insurers

AGENCY: Federal Emergency Management Agency (FEMA).

ACTION: Final rule.

SUMMARY: We (the Federal Insurance Administration) are revising the effective date of the Financial Assistance/Subsidy Arrangement (“the Arrangement”) to October 1, 2000. The Arrangement governs the duties and obligations of insurers that participate in the Write Your Own (WYO) Program of the National Flood Insurance Program (NFIP) and also sets forth the responsibilities of the Government to provide financial and technical assistance to these insurers.

EFFECTIVE DATE: October 1, 2000.

FOR FURTHER INFORMATION CONTACT: Edward T. Pasterick, Federal Emergency Management Agency, Federal Insurance Administration, (202) 646-3443, (facsimile) (202) 646-3445, or (email) edward.pasterick@fema.gov.

SUPPLEMENTARY INFORMATION: On May 21, 1999, we published in the Federal Register (Vol. 64, page 27705) a final rule amending the regulations of the National Flood Insurance Program (NFIP) to include the revised Financial Assistance/Subsidy Arrangement for 1999-2000. The Arrangement governs the duties and obligations of insurers participating in the Write Your Own (WYO) program of the NFIP and the responsibilities of the Government to provide financial and technical assistance to these insurers. The 1999-2000 Arrangement ends September 30, 2000. Except for the new effective date of October 1, 2000, the Arrangement for 2000-2001 is unchanged from last year's version. (We have posted the text of the current Arrangement at http://www.fema.gov/nfip/wyoarr99.)

During July 2000 we will send a copy of the offer for the 2000-2001 Arrangement year to all private insurance companies participating under the current 1999-2000 Arrangement, together with related materials and submission instructions. Any private insurance company not currently participating in the WYO program but wishing to consider FEMA's offer for 2000-2001 may request a copy of the offer by writing: Federal Emergency Management Agency, ATTN: Federal Insurance Administrator, WYO Program, Washington, DC 20472.

Administrative Procedure Act Determination

We are publishing this final rule without opportunity for prior public comment under the Administrative Procedure Act, 5 U.S.C. 553. This final rule is a rule of agency procedure or practice that is excepted from the prior public comment requirements of § 553(b). Except as the rule revises the effective date of the Financial Assistance/Subsidy Arrangement (“the Arrangement”) from October 1, 1999 to October 1, 2000, this rule makes no significant, substantive changes to the Arrangement between FEMA and the WYO companies.

National Environmental Policy Act

The requirements of 44 CFR Part 10, Environmental Consideration, sec. 10.8(d)(2)(i) categorically exclude this final rule. By revising the effective date of the Arrangement, this rule is an administrative action in support of day-to-day activities. We have not prepared an environmental impact assessment.

Executive Order 12866, Regulatory Planning and Review

We have reviewed this final rule under the provisions of E.O. 12866 of September 30, 1993, 58 FR 51735 and determined that it is not a significant regulatory action within the meaning of section 2(f) of that executive order. The rule only revises the effective date of the existing Arrangement from October 1, 1999 to October 1, 2000, and makes no other changes to the Arrangement. In all other respects the rule adheres to the regulatory principles set forth in E.O. 12866. The Office of Management and Budget has reviewed this final rule under E.O. 12866.

Paperwork Reduction Act

In accordance with the provisions of the Paperwork Reduction Act of 1995, 44 U.S.C. 3501 et seq., the Office of Management and Budget (OMB) approved the collections of information applicable to this final rule: OMB Number 3067-0169, Write Your Own (WYO) Program (expires March 31, 2002).

Executive Order 13132, Federalism

We have reviewed this rule under the provisions of under E.O. 13132, Federalism, dated August 4,1999, and have concluded that revision of the effective date of the Arrangement involves no policies that have federalism implications.

Congressional Review of Agency Rulemaking

We have sent this final rule to the Congress and to the General Accounting Office under the Congressional Review of Agency Rulemaking Act, Pub. L. 104-121. The rule is not a “major rule” within the meaning of that Act. It is an administrative action in support of normal day-to-day activities. It does not result in nor is it likely to result in an annual effect on the economy of $100,000,000 or more. It will not result in a major increase in costs or prices for consumers, individual industries, Federal, State, or local government agencies, or geographic regions. It will not have “significant adverse effects” on competition, employment, investment, productivity, innovation, or on the ability of United States-based enterprises to compete with foreign-based enterprises. This final rule is exempt from the Paperwork Reduction Act. The rule is not an unfunded Federal mandate within the meaning of the Unfunded Mandates Reform Act of 1995, Pub. L. 104-4. It does not meet the $100,000,000 threshold of that Act, and any enforceable duties are imposed as a condition of Federal assistance or a duty arising from participation in a voluntary Federal program.

List of Subjects in 44 CFR Part 62

Flood insurance.

Accordingly, amend 44 CFR Part 62 as follows:

PART 62—SALE OF INSURANCE AND ADJUSTMENT OF CLAIMS

1. The authority citation for Part 62 continues to read as follows:

Authority: 42 U.S.C. 4001 et seq.; Reorganization Plan No. 3 of 1978, 43 FR 41943, 3 CFR, 1978 Comp., p. 329; E.O. 12127 of Mar. 31, 1979, 44 FR 19367, 3 CFR, 1979 Comp., p. 376.

2. Revise the Effective Date of Appendix A to Part 62 to read as follows:

Appendix A to Part 62—Federal Emergency Management Agency, Federal Insurance Administration, Financial Assistance/Subsidy Arrangement

* * * * *

Effective Date: October 1, 2000.

(Catalog of Federal Domestic Assistance No. 83.100, “Flood Insurance”, No. 83.516, “Disaster Assistance”)
Dated: June 2, 2000.
Jo Ann Howard,
Administrator, Federal Insurance Administration.

[FR Doc. 00-14656 Filed 6-8-00; 8:45 am]

BILLING CODE 6718-03-P